DEPARTMENT OF TRANSPORTATION

Federal Aviation Administration

Notice of Land Use Change and Release of Grant Assurance Restrictions at the Oceano County Airport, Oceano, San Luis Obispo County, California

AGENCY: Federal Aviation Administration, DOT.

ACTION: Notice of a non-aeronautical land-use change.

SUMMARY: The Federal Aviation Administration (FAA) proposes to rule and invites public comment on the application for a land-use change for approximately .834 acres of airport property at Oceano County Airport, Oceano, California. The land use change will permit the release of the aeronautical use provision of the Grant Assurances that require it to serve an airport purpose since the land is not needed for aeronautical uses. The released land will be used for storm drainage improvements intended to enhance the existing drainage system in the southerly portion of the Oceano community adjacent to the east portion of the Oceano County Airport. The project will also reduce existing runoff on airport property as well as alleviate an existing drainage problem on Highway 1 at 13th Street. The fair market value will be paid for the land and thereby serve the interest of civil aviation.

DATES: Comments must be received on or before October 28, 2016

FOR FURTHER INFORMATION CONTACT: Comments on the request may be mailed or delivered to the FAA at the following address: Mr. James W. Lomen, Manager, Federal Aviation Administration, San Francisco Airports District Office, Federal Register Comment, 1000 Marina Boulevard, Suite 220, Brisbane, CA 94005. In addition, one copy of the comment submitted to the FAA must be mailed or delivered to Mr. Dave Flynn, Deputy Director of Public Works, County of San Luis Obispo, 1055 Monterey St., San Luis Obispo, CA 93408.

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition imposed on a federally obligated airport by surplus property conveyance deeds or grant agreements.

The following is a brief overview of the request:

The County of San Luis Obispo, California requested a modification to the conditions in the Grant Assurances to permit the non-aeronautical use of .834 acres of land at Oceano County Airport for the construction, maintenance, and operation of a permanent concrete sedimentation basin that is to be constructed below grade and that will collect and control surface water runoff from Airport and off-airport property. The land subject to the release is part of a larger 6.3-acre parcel that is currently being used for recreational vehicle (RV) storage on a month-to-month agreement. Drainage collected in the basin will ultimately flow to Arroyo Grande Creek via an existing airport drainage basin lying westerly of and adjacent to the proposed concrete basin. The new storm drain system will be located in the east portion of the Airport and will enhance the existing drainage facilities that serve the Oceano community since most of the Airport lies within the 100-year flood plain. The project will reduce existing runoff on airport property and alleviate a drainage problem on Highway 1 at 13th Street. Fair market value will be paid for the property and rental revenue will continue to be collected for the portion of land (5.466 acres) that continues to be used for RV storage. As a result, this project will reduce storm water runoff, preserve the RV storage rental revenue, and serve the interest of civil aviation.

Issued in Brisbane, California, on September 15, 2016.
Arlene B. Draper,
Assistant Manager, San Francisco Airports District Office, Western-Pacific Region.

[FR Doc. 2016-23417 Filed 9-27-16; 8:45 am]

BILLING CODE 4910-13-P